FEDERAL RESERVE SYSTEM

Formations of, Acquisitions by, and Mergers of Bank Holding Companies; Correction

This notice corrects a notice (FR Doc. 2013-03831) published on page 11884 of the issue for Wednesday, February 20, 2013.

Under the Federal Reserve Bank of San Francisco heading, the entry for One PacificCoast Foundation and One PacificCoast Bancorp, Inc., both in Oakland, California, is revised to read as follows:

A. Federal Reserve Bank of San Francisco (Gerald C. Tsai, Director, Applications and Enforcement) 101 Market Street, San Francisco, California 94105-1579:

1. One PacificCoast Foundation and One PacificCoast Bancorp, Inc., both in Oakland, California, to become bank holding companies by acquiring at least 90 percent of the voting shares of Albina Community Bank, Portland, Oregon.

In connection with this application, Applicant also has applied to retain voting shares of One PacificCoast Bank FSB, Oakland, California, and thereby engage in operating a nonbank thrift subsidiary, pursuant to section 225.28(b)(4)(ii).

Comments on this application must be received by March 15, 2013.

Board of Governors of the Federal Reserve System, March 5, 2013.
Michael J. Lewandowski,
Assistant Secretary of the Board.

[FR Doc. 2013-05464 Filed 3-7-13; 8:45 am]

BILLING CODE 6210-01-P